DEPARTMENT OF COMMERCE

National Oceanic and Atmospheric Administration

[I.D. 122804A]

North Pacific Fishery Management Council; Notice of Public Meeting

Agency: National Marine Fisheries Service (NMFS), National Oceanic and Atmospheric Administration (NOAA), Commerce.

ACTION: Meetings of the North Pacific Fishery Management Council Gulf Rationalization Community Committee.

SUMMARY: The North Pacific Fishery Management Council (Council) Gulf Rationalization Community Committee will meet at the Hotel Captain Cook.

DATES: January 28, 2005, 8 am - 5 pm, Voyager Room.

ADDRESSES: Hotel Captain Cook, 4th and K Street, Anchorage, AK 99501

Council address: North Pacific Fishery Management Council, 605 W. 4th Ave., Suite 306, Anchorage, AK 99501-2252.

FOR FURTHER INFORMATION CONTACT: Nicole Kimball, Council staff, Phone: 907-271-2809.

SUPPLEMENTARY INFORMATION: The Committee will discuss the future funding of the CFQ Program, the administrative entity(ies) structure, and how CFQ or purchased shares would be distributed and used among eligible communities.

Special Accommodations

These meetings are physically accessible to people with disabilities. Requests for sign language interpretation or other auxiliary aids should be directed to Gail Bendixen at 907-271-2809 at least 7 working days prior to the meeting date.

Dated: December 28, 2004.
Alan D. Risenhoover,
Acting Director, Office of Sustainable Fisheries, National Marine Fisheries Service.

[FR Doc. E4-3906 Filed 12-30-04; 8:45 am]

BILLING CODE 3510-22-S